DEPARTMENT OF ENERGY

Federal Energy Regulatory Commission

[Project No. 14145-001]

Pacific Green Power, LLC; Notice of Intent To File License Application, Filing of Pre-Application Document, Denying Use of the Traditional Licensing Process, Commencement of Licensing Proceeding, Scoping, and Solicitation of Study Requests and Comments on the PAD and Scoping Document

a. Type of Filing: Notice of Request To Use the Traditional Licensing Process.

b. Project No.: 14145-001.

c. Dated Filed: July 25, 2011.

d. Submitted by: Pacific Green Power, LLC.

e. Name of Project: Two Girls Creek Hydroelectric Project.

f. Location: On Two Girls Creek River, in Linn County, Washington. The project occupies United States lands administered by the Forest Service.

g. Filed Pursuant to: 18 CFR 5.3 of the Commission's regulations.

h. Potential Applicant Contact: Mr. David G. Harmon, P.E., Pacific Green Power, LLC, P.O. Box 44, Sweet Home, Oregon 97386; phone: (541) 405-5236.

i. FERC Contact: Jennifer Harper at (202) 502-6136; or e-mail at Jennifer.Harper@FERC.gov.

j. Pacific Green Power, LLC filed its request to use the Traditional Licensing Process on July 25, 2011. With this notice, the Director of the Division of Hydropower Licensing denies Pacific Green Power, LLC's request to use the Traditional Licensing Process.

k. With this notice, we are initiating informal consultation with: (a) The U.S. Fish and Wildlife Service and NOAA Fisheries under section 7 of the Endangered Species Act and the joint agency regulations thereunder at 50 CFR, Part 402; (b) NOAA Fisheries under section 305(b) of the Magnuson-Stevens Fishery Conservation and Management Act and implementing regulations at 50 CFR 600.920; and (c) the Oregon State Historic Preservation Officer, as required by section 106, National Historical Preservation Act, and the implementing regulations of the Advisory Council on Historic Preservation at 36 CFR 800.2.

l. Pacific Green Power, LLC filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction from the applicant listed in paragraph h.

Register online at http://www.ferc.gov/docs-filing/esubscription.asp to be notified via e-mail of new filing and issuances related to this or other pending projects. For assistance, contact FERC Online Support.

n. With this notice, we are soliciting study requests, as well as comments on the PAD and Scoping Document 1 (SD1). All study requests, as well as comments on the PAD and SD1 should be sent to the address above in paragraph h. In addition, all study requests, comments on the PAD and SD1, requests for agency cooperator status and all communications to and from Commission staff related to the merits of the potential application must be filed with the Commission. Documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

All filings with the Commission must include the project name and number, and bear the heading “Study Requests,” “Comments on Pre-Application Document,” “Comments on Scoping Document 1,” “Request for Cooperating Agency Status,” or “Communications to and from Commission Staff.” Any individual or entity interested in commenting on the PAD must do so by November 22, 2011.

o. At this time, the Commission intends to prepare an Environmental Assessment (EA) on the project, in accordance with the National Environmental Policy Act, as determined by the issues identified during the scoping process. If an EIS is determined to be required for the project, the U.S. Army Corps of Engineers has requested to be a cooperating agency.

Scoping Meetings

Commission staff will hold two scoping meetings in the vicinity of the project at the time and place indicated below. The daytime meeting will focus on resource agency and non-governmental organization (NGO) concerns, while the evening meeting is primarily for receiving input from the public. We invite all interested individuals, organizations, and agencies to attend one or both of the meetings, and to assist staff in identifying particular study needs, as well as the scope of environmental issues to be addressed in the environmental document. The times and locations of these meetings are as follows:

Daytime Scoping Meeting

Dates: Tuesday, October 18, 2011,

Time: 1 p.m.-4 p.m.,

Place: Sweet Home Ranger District Office, 4431 Highway 20, Sweet Home, OR 97386.

Evening Scoping Meeting

Date: Tuesday, October 18, 2011,

Time: 6 p.m.-9 p.m.,

Place: Sweet Home Senior and Community Center, 880 18th Ave, Sweet Home, OR 97386.

Scoping Document 1 (SD1), which outlines the subject areas to be addressed in the environmental document, was mailed to the individuals and entities on the Commission's mailing list. Copies of SD1 will be available at the scoping meetings, or may be viewed on the web at http://www.ferc.gov, using the “eLibrary” link. Follow the directions for accessing information in paragraph n. Based on all oral and written comments, a Scoping Document 2 (SD2) may be issued. SD2, if needed, would include a revised process plan and schedule, as well as a list of issues, based on the scoping process.

Environmental Site Review

The potential applicant and Commission staff will conduct an environmental site review of the project on Wednesday, October 19, 2011, starting at 9:30 a.m. All participants should meet at meet no later than 9:30 a.m., at the parking lot adjacent to the west picnic area of Cascadia State Park, approximately 14 miles east of Sweet Home off Highway 20. A map of Cascadia State Park is available at http://www.oregonstateparks.org/images/pdf/cascadia_map.pdf. There will be an approximately 30-minute drive to the site from the meet-up point. All participants are responsible for their own transportation to the site. Anyone with questions about the site visit should contact Mr. David Harmon, at dave@pacgreenpower.com or at (541) 405-5236.

Meeting Objectives

At the scoping meetings, staff will: (1) Initiate scoping of the issues; (2) review and discuss existing conditions and resource management objectives; (3) review and discuss existing information and identify preliminary information and study needs; (4) review, discuss, and finalize the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document.

Meeting Procedures

The meetings will be recorded by a stenographer and will become part of the formal record of the Commission proceeding on the project.

Dated: September 23, 2011.
Kimberly D. Bose,
Secretary.

[FR Doc. 2011-25055 Filed 9-28-11; 8:45 am]

BILLING CODE 6717-01-P